OFFICE OF THE UNITED STATES TRADE REPRESENTATIVE

Request for Comments and Notice of Public Hearing Concerning Proposed Free Trade Agreement Negotiations With Southern Africa

AGENCY: Office of the United States Trade Representative.

ACTION: Notice of intent to initiate negotiations, request for public comments, and notice of public hearing on negotiation of a free trade agreement between the United States and five southern African countries.

SUMMARY: The United States intends to initiate negotiations on a free trade agreement (FTA) with Botswana, Lesotho, Namibia, South Africa and Swaziland, which collectively comprise the Southern African Customs Union. The interagency Trade Policy Staff Committee (TPSC) will convene a public hearing and seeks public comments to assist the United States Trade Representative (USTR) in amplifying and clarifying negotiating objectives for the proposed FTA and to provide advice on how specific goods and services and other matters should be treated under the proposed agreement.

DATES: Persons wishing to testify orally at the hearing must provide written notification of their intention, as well as their testimony, by December 6, 2002. A hearing will be held in Washington, DC, beginning on December 16, 2002, and continuing as necessary on subsequent days. Written comments are due by noon on December 20, 2002.

ADDRESSES: Submissions by electronic mail:

FR0046@ustr.gov (notice of intent to testify and written testimony);

FR0047@ustr.gov (written comments).

Submissions by facsimile: Gloria Blue, Executive Secretary, Trade Policy Staff Committee, at (202) 395-6143.

The public is strongly encouraged to submit documents electronically rather than by facsimile. (See requirements for submissions below.)

FOR FURTHER INFORMATION CONTACT: For procedural questions concerning public comments, contact Gloria Blue, at (202) 395-3475. All other questions should be directed to Chris Moore, Director for African Affairs, Office of the United States Trade Representative, at (202) 395-9514.

SUPPLEMENTARY INFORMATION:

1. Background

On February 16, 2002, the USTR met with Trade Ministers and other officials from Botswana, Lesotho, Namibia, South Africa, and Swaziland in Pretoria, South Africa, to discuss the possibility of a free trade agreement. Subsequent discussions with these countries have demonstrated their readiness, individually and collectively, to be free trade partners.

Botswana, Lesotho, Namibia, South Africa and Swaziland constitute the largest U.S. export market in sub-Saharan Africa, with sales valued at $3.1 billion in 2001. Each is a member of the World Trade Organization, and is pursuing regional free trade through the Southern African Development Community (SADC). Namibia and Swaziland are also members of the Common Market for Eastern and Southern Africa (COMESA). South Africa signed a free trade agreement with the European Union in 1999, in which it agreed to eliminate duties on 86 percent of imports from the EU by 2012.

Botswana, Lesotho, Namibia, South Africa and Swaziland are beneficiaries of the African Growth and Opportunity Act (AGOA). Section 116 of the AGOA calls for the negotiation of free trade agreements with interested countries in sub-Saharan Africa, in order to serve as the catalyst for increasing trade between the United States and the region and increasing private sector investment in sub-Saharan Africa.

Under section 2104 of the Trade Act of 2002 (19 U.S.C. 3804), for agreements that will be approved and implemented through Trade Promotion Authority procedures, the President must provide the Congress with at least 90 days' written notice of his intent to enter into negotiations and must identify specific objectives for the negotiations. Before and after the submission of this notice, the President must consult with appropriate Congressional committees and the Congressional Oversight Group regarding the negotiations. Under the Trade Act of 1974, as amended, the President must (a) afford interested persons an opportunity to present their views regarding any matter relevant to any proposed agreement, (b) designate an agency or inter-agency committee to hold a public hearing regarding any proposed agreement, and (c) seek the advice of the U.S. International Trade Commission (ITC) regarding the probable economic effects on U.S. industries and consumers of the removal of tariffs and non-tariff barriers on imports pursuant to any proposed agreement.

On November 4, 2002, after consulting with relevant Congressional committees and the Congressional Oversight Group, the USTR notified the Congress that the President intends to initiate negotiations on an FTA with southern Africa and identified specific objectives for the negotiations. In addition, the USTR has requested the ITC's probable economic effects advice. The ITC intends to provide this advice within five months. This notice solicits views from the public on the proposed FTA and provides information on a hearing which will be conducted pursuant to the requirements of the Trade Act of 1974.

2. Public Comments and Testimony

To assist the Administration as it continues to develop its negotiating objectives for the proposed FTA, the Chairman of the TPSC invites written comments and/or oral testimony of interested parties at a public hearing. Comments and testimony may address the reduction or elimination of tariffs or non-tariff barriers on any article provided for in the Harmonized Tariff Scheduled of the United States (HTS) that is a product of Botswana, Lesotho, Namibia, South Africa or Swaziland, any concession which should be sought by the United States, or any other matter relevant to the proposed FTA. The TPSC invites comments and testimony on all of these matters, and in particular, seeks comments and testimony addressed to:

(a) General and commodity-specific negotiating objectives for the proposed FTA.

(b) Economic benefits and costs to U.S. producers and consumers of the removal of tariffs and non-tariff barriers on trade between the United States and southern Africa.

(c) Treatment of specific goods (described by HTS numbers) under the proposed FTA, including comments on (1) product-specific import and export interests or barriers, (2) experience with particular measures that should be addressed in the negotiations, and (3) in the case of articles for which immediate elimination of tariffs is not appropriate, the recommended staging schedule for such elimination.

(d) Adequacy of existing customs measures to ensure Botswana, Lesotho, Namibia, South Africa or Swaziland origin of imported goods, and appropriate rules of origin for goods entering the United States under the proposed FTA.

(e) Existing sanitary and phytosanitary measures and technical barriers to trade in Botswana, Lesotho, Namibia, South Africa or Swaziland.

(f) Existing barriers to trade in services between the United States and the southern African countries that should be addressed in the negotiations.

(g) Relevant trade-related intellectual property rights issues that should be addressed in the negotiations.

(h) Relevant investment issues that should be addressed in the negotiations.

(i) Relevant government procurement issues that should be addressed in the negotiations.

(j) Relevant environmental and labor issues that should be addressed in the negotiations.

Comments identifying as present or potential trade barriers laws or regulations that are not primarily trade-related should address the economic, political or social objectives of such laws or regulations and the degree to which they discriminate against producers of the other country.

At a later date, the USTR, through the TPSC, will publish notice of reviews regarding (a) the possible environmental effects of the proposed agreement and the scope of the U.S. environmental review of the proposed agreement, and (b) the impact of the proposed agreement on U.S. employment and labor markets.

A hearing will be held on December 16, 2002, in Rooms 1 and 2, 1724 F Street, NW., Washington, DC 20508. If necessary, the hearing will continue on subsequent days.

Persons wishing to testify at the hearing must provide written notification of their intention by December 6, 2002. The notification should include: (1) The name, address, and telephone number of the person presenting the testimony; and (2) a short (one or two paragraph) summary of the presentation, including the subject matter and, as applicable, the product(s) (with HTS number(s)), service sector(s), or other subjects (such as investment, intellectual property and/or government procurement) to be discussed. A copy of the testimony must accompany the notification. Remarks at the hearing should be limited to no more than five minutes to allow for possible questions from the TPSC. Persons with mobility impairments who will need special assistance in gaining access to the hearing should contact Gloria Blue at the number given above.

Interested persons, including persons who participate in the hearing, may submit written comments by noon, December 20, 2002. Written comments may include rebuttal points demonstrating errors of fact or analysis not pointed out at the hearing. All written comments must state clearly the position taken, describe with particularity the supporting rationale, and be in English. The first page of the written comments must specify the subject matter including, as applicable, the product(s) (with HTS number(s)), service sector(s), or other subjects (such as investment, intellectual property and/or government procurement).

3. Requirements for Submissions

To facilitate prompt processing of submissions, the Office of the U.S. Trade Representative strongly urges and prefers electronic (e-mail) submissions in response to this notice. In the event that an e-mail submission is impossible, submissions should be made by facsimile.

Persons making submissions by e-mail should use the following subject line: “Free Trade Agreement with Southern Africa” followed by (as appropriate) “Notice of Intent to Testify,” “Testimony,” or “Written Comments.” Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments, notice of testimony, and testimony will be placed in a file open to public inspection pursuant to 15 CFR 2003.5, except confidential business information exempt from public inspection in accordance with 15 CFR 2003.6. Business confidential information submitted in accordance with 15 CFR 2006.6 must be clearly marked “BUSINESS CONFIDENTIAL” at the top of each page, including any cover letter or cover page, and must be accompanied by a nonconfidential summary of the confidential information. All public documents and nonconfidential summaries shall be available for public inspection in the Reading Room at the Office of the United States Trade Representative. The Reading Room is open to the public, by appointment only, from 10 a.m. to 12 noon and 1 p.m. to 4 p.m., Monday through Friday. An appointment to review the file may be made by calling (202) 395-6186. Appointments must be scheduled at least 48 hours in advance.

General information concerning the Office of the United States Trade Representative may be obtained by accessing its Web site (http://www.ustr.gov).

Carmen Suro-Bredie,
Chairman, Trade Policy Staff Committee.

[FR Doc. 02-29095 Filed 11-12-02; 3:33 pm]

BILLING CODE 3190-01-P